DEPARTMENT OF TRANSPORTATION

National Highway Traffic Safety Administration

[Docket No. NHTSA-2016-0142; Notice 1]

Hyundai Motor America, Receipt of Petition for Decision of Inconsequential Noncompliance

AGENCY: National Highway Traffic Safety Administration (NHTSA), Department of Transportation (DOT).

ACTION: Receipt of petition.

SUMMARY: Hyundai Motor America (Hyundai) has determined that certain model year (MY) 2012-2016 Hyundai Accent motor vehicles do not fully comply with Federal Motor Vehicle Safety Standard (FMVSS) No. 208, Occupant Crash Protection. Hyundai filed a noncompliance information report dated December 12, 2016. Hyundai also petitioned NHTSA on December 16, 2016, for a decision that the subject noncompliance is inconsequential as it relates to motor vehicle safety.

DATES: The closing date for comments on the petition is May 8, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: Hyundai Motor America (Hyundai), has determined that certain model year (MY) 2012-2016 Hyundai Accent motor vehicles do not fully comply with paragraph S4.1.5.5.2 of Federal Motor Vehicle Safety Standard (FMVSS) No. 208, Occupant Crash Protection. Hyundai filed a noncompliance information report dated December 12, 2016, pursuant to 49 CFR part 573, Defect and Noncompliance Responsibility and Reports. Hyundai also petitioned NHTSA on December 16, 2016, pursuant to 49 U.S.C. 30118(d) and 30120(h) and 49 CFR part 556, for an exemption from the notification and remedy requirements of 49 U.S.C. Chapter 301 on the basis that this noncompliance is inconsequential as it relates to motor vehicle safety.

This notice of receipt of Hyundai's petition is published under 49 U.S.C. 30118 and 30120 and does not represent any agency decision or other exercise of judgment concerning the merits of the petition.

II. Vehicles Involved: Approximately 6,445 MY 2012-2016 Hyundai Accent motor vehicles manufactured between May 19, 2011, and July 7, 2016, are potentially involved. The affected vehicles are those equipped with a non-folding rear seat back and sold in the Puerto Rico and Guam markets.

III. Noncompliance: Hyundai explains that the noncompliance is that the affected vehicles are equipped with a non-folding rear seat back and a center rear seat belt incorporating a release mechanism that detaches both the lap and shoulder portion at the lower anchorage point and therefore do not meet the requirements of paragraph S4.1.5.5.2 of FMVSS No. 208. Under FMVSS No. 208, a detachable seat belt in the middle seat is allowed only in vehicles with a folding rear seat.

IV. Rule Text: Paragraph S4.1.5.5.2 of FMVSS No. 208 states in pertinent part:

S4.1.5.5.2 Any inboard designated seating position on a seat for which the entire seat back can be folded (including the head restraints and any other part of the vehicle attached to the seat back) such that no part of the seat back extends above a horizontal plane located 250mm above the highest SRP located on the seat may meet the requirements of S4.1.5.5.1 by use of a belt incorporating a release mechanism that detaches both the lap and shoulder portion at either the upper or lower anchorage point, but not both. The means of detachment shall be a key or key-like object . . .

V. Summary of Hyundai's Petition: Hyundai described the subject noncompliance and stated its belief that the noncompliance is inconsequential as it relates to motor vehicle safety.

In support of its petition, Hyundai submitted the following reasoning:

1. The affected vehicles are equipped with a non-folding rear seat back and a center rear seat belt incorporating a release mechanism that detaches both the lap and shoulder portion at the lower anchorage point to allow improved assembly line procedures.

2. Hyundai first became aware of the possibility that the center rear seat belts of the subject vehicles may not comply with S4.1.5.5.2 of FMVSS No. 208 as a result of internal “port inspections” of certain model year 2016 Hyundai Accent vehicles. A subsequent investigation revealed previous model year “RB” platform Accent vehicles are similarly affected.

3. Hyundai pointed out that 5-door and 4-door Hyundai Accent vehicles equipped with rear folding seats are not affected.

4. The Accent vehicles in question fully comply with FMVSS No. 208 and FMVSS No. 209 requirements with the sole exception that the lap and shoulder portion of the rear center seat belt may be detached from the lower anchorage by use of a tool, such as a key or key-like object.

5. Hyundai states that if the rear seat back of the subject vehicles were capable of being folded (which Hyundai claims would have no effect on seat belt performance) the detachable aspect would not result in a compliance issue.

6. The Owner's Manual in the subject vehicles contains relevant information and illustrations to fasten, unfasten, and disconnect the rear center belt.

7. Hyundai states that it is clear from the intended difficulty in detaching the seat belt and the instructions contained in the Owner's Manual that the seat belt should not be detached. Further, in the Accent with a fixed rear seat back, there is no advantage or reason for the owner to detach the center rear seat belt from the lower anchorage.

8. Hyundai does not believe that it is appropriate to conduct a recall campaign to replace the center rear seat belts in vehicles that have been delivered to customers.

9. Hyundai stated that they are not aware of any accidents or injuries related to the subject noncompliance.

Hyundai concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Hyundai no longer controlled at the time it determined that the noncompliance existed. However, any decision on this petition does not relieve vehicle distributors and dealers of the prohibitions on the sale, offer for sale, or introduction or delivery for introduction into interstate commerce of the noncompliant vehicles under their control after Hyundai notified them that the subject noncompliance existed.

Authority: (49 U.S.C. 30118, 30120: Delegations of authority at 49 CFR 1.95 and 501.8).

Jeffrey M. Giuseppe,
Director, Office of Vehicle Safety Compliance.

[FR Doc. 2017-06954 Filed 4-6-17; 8:45 am]

BILLING CODE 4910-59-P